DEPARTMENT OF HOMELAND SECURITY

Coast Guard

33 CFR Part 117

[Docket No. USCG-2016-0817]

Drawbridge Operation Regulation; Columbia River, Portland, OR and Vancouver, WA

AGENCY: Coast Guard, DHS.

ACTION: Notice of deviation from drawbridge regulation.

SUMMARY: The Coast Guard has issued a temporary deviation from the operating schedule that governs the Interstate 5 (I-5) Bridges across the Columbia River, mile 106.5, between Portland, Oregon, and Vancouver, Washington. The deviation is necessary to facilitate the movement and safety of pedestrians on the I-5 Bridges. This deviation allows the bridges to remain in the closed-to-navigation position during the Hands Across the Bridge event.

DATES: This deviation is effective from 10 a.m. to 1 p.m. on September 5, 2016.

ADDRESSES: The docket for this deviation, [USCG-2016-0XXX] is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: The Oregon Department of Transportation has requested that the Interstate 5 (I-5) Bridges across the Columbia River remain closed to vessel traffic to facilitate heavier than normal pedestrian traffic associated with Hands Across the Bridges event. The I-5 Bridges cross the Columbia River at mile 106.5, and provide three designated navigation channels with vertical clearances ranging from 39 to 72 feet above Columbia River Datum 0.0 while the lift spans are in the closed-to-navigation position. The normal operating schedule for the I-5 Bridges is 33 CFR 117.869. This deviation period is from 10 a.m. to 1 p.m. on September 5, 2016. The deviation allows the lift spans of the I-5 Bridges to remain in the closed-to-navigation position, and need not open for maritime traffic during this period. The bridges shall operate in accordance with 33 CFR 117.869 at all other times. Waterway usage on this part of the Columbia River includes vessels ranging from commercial tug and tow vessels to recreational pleasure craft.

Vessels able to pass under the bridges in the closed positions may do so at anytime. The bridges will be able to open for emergencies and there is no immediate alternate route for vessels to pass. The Coast Guard will also inform the users of the waterways through our Local and Broadcast Notices to Mariners of the change in operating schedule for the bridge so that vessels can arrange their transits to minimize any impact caused by the temporary deviation.

In accordance with 33 CFR 117.35(e), the drawbridges must return to their regular operating schedule immediately at the end of the effective period of this temporary deviation. This deviation from the operating regulations is authorized under 33 CFR 117.35.

Dated: August 19, 2016.
Steven M. Fischer,
Bridge Administrator, Thirteenth Coast Guard District.

[FR Doc. 2016-20368 Filed 8-24-16; 8:45 am]

BILLING CODE 9110-04-P